ENVIRONMENTAL PROTECTION AGENCY

[FRL-8315-8]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or email at auby.susan@epa.gov and please refer to the appropriate EPA Information Collection Request (ICR) Number.

SUPPLEMENTARY INFORMATION:

OMB Responses to Agency Clearance Requests

OMB Approvals

EPA ICR No. 0658.09; NSPS for Pressure Sensitive Tape and Label Surface Coating (Renewal); in 40 CFR part 60, subpart RR; was approved 05/02/2007; OMB Number 2060-0004; expires 05/31/2010.

EPA ICR No. 1066.05; NSPS for Ammonium Sulfate Manufacturing Plants; in 40 CFR part 60, subpart PP; was approved 05/02/2007; OMB Number 2060-0032; expires 05/31/2010.

EPA ICR No. 1157.08; NSPS for Flexible Vinyl Urethane Coating and Printing (Renewal); in 40 CFR part 60, subpart FFF; was approved 05/02/2007; OMB Number 2060-0073; expires 05/31/2010.

EPA ICR No. 2205.01; Focus Groups as Used by EPA for Economics Projects; was approved 05/01/2007; OMB Number 2090-0028; expires 11/30/2008.

EPA ICR No. 1801.06; NESHAP for the Portland Cement Manufacturing Industry (Final Rule); in 40 CFR part 63, subpart LLL; was approved 04/30/2007; OMB Number 2060-0416; expires 04/30/2010.

EPA ICR No. 2044.03; NESHAP for Plastic Parts and Products Surface Coating (Renewal); in 40 CFR part 63, subpart PPPP; was approved 04/16/2007; OMB Number 2060-0537; expires 04/30/2010.

EPA ICR No. 2086.02; Dioxin and Dioxin-Like Compounds, Information Collection Request Supporting Statement Toxic Equivalency Reporting, Community-Right-to-Know, Toxic Chemicals (Final Rule); in 40 CFR 372.85; was approved 04/25/2007; OMB Number 2025-0007; expires 04/30/2010.

Short Term Extensions

EPA ICR No. 0370.22; Information Collection Request for the Revision to Federal UIC Requirements for Class I Municipal Wells in Florida (Final Rule); OMB Number 2040-0042; on 04/24/2007 OMB extended the expiration date through 09/30/2007.

Comment Filed

EPA ICR No. 1730.05; NSPS for Hospital/Medical/Infectious Waste Incinerators (Proposed Rule); in 40 CFR part 60, subpart Ec; OMB Number 2060-0363; OMB filed comment on 4/13/2007.

EPA ICR No. 1684.09; Emissions Certification, Compliance and In-Use Testing Requirements for On-Highway Heavy Duty Engines and Vehicles Equipped with On-Board Diagnostics (Amendment) (Proposed Rule); OMB filed comment on 04/16/2007; OMB Number 2060-0287; expires 03/31/2008.

Dated: May 9, 2007.
Sara Hisel-McCoy,
Acting Director, Collection Strategies Division.

[FR Doc. E7-9503 Filed 5-16-07; 8:45 am]

BILLING CODE 6560-50-P